COMMITTEE FOR PURCHASE FROM PEOPLE WHO ARE BLIND OR SEVERELY DISABLED

Procurement List Additions and Deletions

AGENCY: Committee for Purchase From People Who Are Blind or Severely Disabled.

ACTION: Additions to the Procurement List.

SUMMARY: This action adds to the Procurement List products and services to be furnished by nonprofit agencies employing persons who are blind or have other severe disabilities.

DATES: Effective Date: March 22, 2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 12/18/2009 (74 FR 67176-67177), the Committee for Purchase From People Who Are Blind or Severely Disabled published notice of proposed additions to the Procurement List.

Comments were received from the incumbent contractor indicating that adding Warehouse—Receiving & Distribution Services to the Procurement List would result in negative economic and business impact to its company. The contractor also commented that it has worked in partnership with the government for over nine years to provide consistently excellent service, innovation and best value. Finally, the contractor questioned the qualifications and capabilities of persons with certain disabilities to perform some of the functions of this service.

The Committee for Purchase From People Who Are Blind or Severely Disabled (Committee) operates pursuant to statutory and regulatory requirements. Committee decisions on what items are suitable for addition to the Procurement List are specifically guided by regulations in 41 CFR Chapter 51. The Committee regulation states that for a commodity or service to be suitable for addition to the Procurement List each of the following criteria must be satisfied: Employment potential; nonprofit agency qualifications, capability, and level of impact on the current contractor for the commodity or service.

The Committee, as an independent federal agency, is responsible for implementing the Javits-Wagner-O'Day Act. In accordance with the Act and the Code of Federal Regulations, the Committee determines which products and services produced and/or provided by nonprofit agencies employing people who are blind or with other severe disabilities are suitable for procurement by the government. The members independently consider and appropriately decide whether each product or service meets its established criteria for addition to the Procurement List. While the incumbent contractor has stated that this addition would result in adverse impact to his company, the evaluation by the Committee had determined that it would not result in severe adverse financial impact. The Committee has also determined that the nonprofit agency—and its employees—is capable and qualified to provide the service to the government. Therefore, in this situation, all four criteria have been evaluated by the Committee and the service has been determined to be suitable for addition to the Procurement List.

The Committee appreciates the struggle of small business at the local level to maintain training and employment opportunities. However, the obligation of the Committee is to focus on increasing opportunities for nonprofit agencies employing people who are blind or with other severe disabilities.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 8415-00-NSH-1746—Armored Survival Vest Ensemble, Small.

NSN: 8465-00-NSH-2008—Set of Pockets (Armored Survival Vest).

NSN: 8465-00-NSH-2007—HABD/SEA Pocket, Armored Survival Vest.

NSN: 8465-00-NSH-2006—Radio Pocket, Armored Survival Vest.

NSN: 8465-00-NSH-2005—General Pocket, Armored Survival Vest.

NSN: 8415-00-NSH-1783—Armored Survival Vest, Extra Large.

NSN: 8415-00-NSH-1782—Armored Survival Vest, Large.

NSN: 8415-00-NSH-1781—Armored Survival Vest, Medium.

NSN: 8415-00-NSH-1780—Armored Survival Vest, Small.

NSN: 8415-00-NSH-1749—Armored Survival Vest Ensemble, Extra Large.

NSN: 8415-00-NSH-1748—Armored Survival Vest Ensemble, Large.

NSN: 8415-00-NSH-1747—Armored Survival Vest Ensemble, Medium.

NPA: Peckham Vocational Industries, Inc., Lansing, MI.

Contracting Activity: Dept of the Navy, Naval Air Systems Command Headquarters, Patuxent River, MD.

Coverage: C-List for the requirements of the Department of the Navy, Naval Air Systems Command, Patuxent River, MD.

Services

Service Type/Location: Custodial/Building Maintenance/Groundskeeping, San Angelo Air and Marine Unit, 8092 Hangar Road, San Angelo, TX.

NPA: Mavagi Enterprises, Inc., San Antonio, TX.

Contracting Activity: Bureau of Customs and Border Protection, Department of Homeland Security, Office of Procurement, Washington, DC.

Service Type/Location: Consolidated Facilities Maintenance (CFM)

Naval Medical Center Portsmouth, 620 John Paul Jones Circle, Portsmouth, VA.

Boone Clinic, Naval Amphibious Base Little Creek, 1035 Nider Blvd., Norfolk, VA.

Yorktown Clinic, Naval Weapons Station, Naval Weapons Station, Yorktown, VA.

Dam Neck Clinic, Fleet Combat Training Center Atlantic, 1885 Terrier Avenue, Virginia Beach, VA.

Oceana Clinic, Naval Air Station Oceana, 1550 Tomcat Blvd., Suite 150, Virginia Beach, VA.

Sewells Point Clinic, Naval Station Norfolk, Norfolk, VA.

NNSY Clinic, Norfolk Naval Shipyard, Portsmouth, VA.

NPA: Professional Contract Services, Inc., Austin, TX.

Contracting Activity: Dept of the Navy, Naval FAC Engineering CMD MID LANT, Norfolk, VA.

Service Type/Location: Warehouse—Receiving & Distribution Services

Chamblee, 4770 Buford Highway, Chamblee, GA.

Roybal Campus, 1600 Clifton Road, Atlanta, GA.

Peachtree Distribution Center, 3719 N. Peachtree Road, Chamblee, GA.

NPA: Goodwill Industries of North Georgia, Inc., Atlanta, GA.

Contracting Activity: Centers For Disease Control & Prevention (CDC), Procurement Grants Office (PGO), Atlanta, GA.

Barry S. Lineback,
Director, Business Operations.

[FR Doc. 2010-3260 Filed 2-18-10; 8:45 am]

BILLING CODE 6353-01-P